FEDERAL MARITIME COMMISSION

Ocean Transportation Intermediary License Reissuance

Notice is hereby given that the following Ocean Transportation Intermediary license has been reissued by the Federal Maritime Commission pursuant to section 19 of the Shipping Act of 1984, (46 U.S.C. app. 1718) and the regulations of the Commission pertaining to the licensing of Ocean Transportation Intermediaries, 46 CFR 515.

License No. | Name/address | Date reissued
016017N | Carotrans International, Inc., 2401 Morris Avenue, 2nd Floor, West Union, NJ 07083 | June 18, 2006.

Peter J. King,
Deputy Director, Bureau of Certification and Licensing.

[FR Doc. E6-14440 Filed 8-29-06; 8:45 am]

BILLING CODE 6730-01-P